FEDERAL COMMUNICATIONS COMMISSION

47 CFR Part 76

[MB Docket No. 07-198; DA 07-4688]

Review of the Commission's Program Access Rules and Examination of Programming Tying Arrangements

AGENCY: Federal Communications Commission.

ACTION: Proposed rule; extension of comment period.

SUMMARY: The Media Bureau extends the comment and reply comment deadlines on the Notice of Proposed Rulemaking (“NPRM”) on revisions to the Commission's program access and retransmission consent rules and whether it may be appropriate to preclude the practice of programmers to tie desired programming with undesired programming. To facilitate the development of a thorough record, the deadline for filing comments in response to the NPRM is extended to January 4, 2008, and the deadline for filing reply comments is extended to January 22, 2008.

DATES: Comments are due on or before January 4, 2008; reply comments are due on or before January 22, 2008.

ADDRESSES: You may submit comments, identified by MB Docket No. 07-198, by any of the following methods:

• Federal eRulemaking Portal: http://www.regulations.gov. Follow the instructions for submitting comments.

• Federal Communications Commission's Web site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: David Konczal, David.Konczal@fcc.gov, of the Media Bureau, Policy Division, (202) 418-2120.

SUPPLEMENTARY INFORMATION: This is a summary of the Order in MB Docket No. 07-198, DA 07-4688, released on November 20, 2007. The full text of this document is available for public inspection and copying during regular business hours in the FCC Reference Center, Federal Communications Commission, 445 12th Street, SW., CY-A257, Washington, DC 20554. This document will also be available via ECFS (http://www.fcc.gov/cgb/ecfs/). (Documents will be available electronically in ASCII, Word 97, and/or Adobe Acrobat.) The complete text may be purchased from the Commission's copy contractor, 445 12th Street, SW., Room CY-B402, Washington, DC 20554. To request this document in accessible formats (computer diskettes, large print, audio recording, and Braille), send an e-mail to fcc504@fcc.gov or call the Commission's Consumer and Governmental Affairs Bureau at (202) 418-0530 (voice), (202) 418-0432 (TTY).

Summary of the Order

1. On October 1, 2007, the Commission released an NPRM in MB Docket No. 07-198 on revisions to the Commission's program access and retransmission consent rules and whether it may be appropriate to preclude the practice of programmers to tie desired programming with undesired programming. The NPRM set deadlines for filing comments and reply comments at 30 and 45 days, respectively, after publication of the NPRM in the Federal Register. A summary of the NPRM was published in the Federal Register on October 31, 2007 (72 FR 61590, October 31, 2007). Accordingly, the comment filing dates were established as November 30, 2007 for comments and December 17, 2007 for reply comments.

2. On November 2, 2007, Fox Entertainment Group, Inc. and Fox Television Holdings, Inc. (collectively, “Fox”) and Viacom Inc. (“Viacom”) filed requests for a 45-day extension of the comment deadline. Similar requests were subsequently filed by NBC Universal, Inc. (“NBCU”) and The Walt Disney Company (“Disney”). The parties argue that the issues raised in the NPRM are highly complex and that a 30-day comment period does not enable them to gather the necessary data to respond effectively. The parties argue that additional time will enable them to survey executives in their broadcast and cable divisions and to retain experts to perform economic analyses. The parties state that additional time to respond to the NPRM will serve the public interest by facilitating a more complete record. Fox also contends that the holiday season compounds the difficulties of responding to the NPRM by the comment deadline. Viacom argues that the issues raised in a recent class action lawsuit filed against Viacom and others regarding the offering of bundled and tiered programming packages are closely related to the issues raised in the NPRM. Viacom requests an extension of the comment deadline to ensure a coordinated and comprehensive response to this lawsuit and to the NPRM. The parties further assert that a 45-day extension of the comment deadline will cause no hardship or prejudice to other interested parties or to the Commission.

3. As set forth in Section 1.46 of the Commission's Rules, the Commission's policy is that extensions of time for filing comments in rulemaking proceedings shall not be routinely granted. 47 CFR 1.46. In this case, however, an extension of the comment and reply comment period is warranted to enable commenters to gather sufficient data, including economic analyses, to facilitate the development of a thorough record in response to the issues raised in the NPRM. We decline, however, to grant the full 45-day extension requested by the parties. With the additional extension granted herein, interested parties will now have a total of 65 days to prepare comments. We believe that this provides parties with ample time to respond to the issues raised in the NPRM.

4. Accordingly, we hereby grant the Motions for Extension of Time filed in MB Docket No. 07-198 by Disney, Fox, NBCU, and Viacom to the extent detailed above. The time for filing comments is extended to January 4, 2008, and the time for filing reply comments is extended to January 22, 2008.

5. This action is taken pursuant to authority found in Sections 4(i), 4(j), and 303(r) of the Communications Act of 1934, as amended, 47 U.S.C. 154(i), 154(j), and 303(r), and Sections 0.61, 0.283, and 1.46 of the Commission's rules, 47 CFR 0.61, 0.283, and 1.46.

6. Specific instructions for filing comments are located at paragraphs 26-27 of the item as published in the Federal Register and at paragraphs 139-142 of the item as released by the Commission and that appears on the Commission's Web site: http://hraunfoss.fcc.gov/edocs_public/attachmatch/FCC-07-169A1.doc.

Federal Communications Commission.
Steven A. Broeckaert,
Senior Deputy Chief, Policy Division, Media Bureau.

[FR Doc. E7-25130 Filed 12-27-07; 8:45 am]

BILLING CODE 6712-01-P